DEPARTMENT OF TRANSPORTATION

Federal Railroad Administration

[Docket Number FRA-2013-0065]

Petition for Waiver of Compliance

In accordance with Part 211 of Title 49 Code of Federal Regulations (CFR), this document provides the public notice that by documents dated June 11, 2013, and August 12, 2013, Tavares, Eustis & Gulf Railroad (TEVR) has petitioned the Federal Railroad Administration (FRA) for a waiver of compliance from certain provisions of the Federal railroad safety regulations contained at 49 CFR Part 215-Railroad Freight Car Safety Standards. FRA assigned the petition Docket Number FRA-2013-0065.

TEVR seeks relief from 49 CFR 215.303-Stenciling of restricted cars, which requires that restricted railroad freight cars shall be stenciled or marked in clearly legible letters with the letter “R” and a series of designated terms to completely indicate the basis for the restricted operation of the car.

The petition concerns one caboose, numbered RERX 5404, and four freight cars: RERX 101, 213, 504 and 702. The freight cars are railroad flatcars converted to passenger carriage cars for tourist and excursion railroad service by the addition of seating, superstructures, and steps. Each of the TEVR freight cars in the present petition is more than 50 years old, measured from the date of original construction. These freight cars are the subject of a parallel petition for Special Approval for continued operation under 49 CFR 215.203(c). Therefore, TEVR seeks waiver of the requirement for stenciling found in 49 CFR 215.303, as the railroad states that the stenciling would detract from both the aesthetic and historical nature of the reproduction vintage railcar equipment. As TEVR passenger equipment will operate in a limited area, TEVR requests permission to keep documentation related to the restricted status of the equipment at their business office, similar to the conditions granted to other tourist and excursion railroads.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 21, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC.
Robert C. Lauby,
Deputy Associate Administrator for Regulatory and Legislative Operations.

[FR Doc. 2013-21690 Filed 9-5-13; 8:45 am]

BILLING CODE 4910-06-P